Proclamation 9109 of April 30, 2014

Jewish American Heritage Month, 2014

By the President of the United States of America

A Proclamation

For thousands of years, the Jewish people have sustained their identity and traditions, persevering in the face of persecution. Through generations of enslavement and years of wandering, through forced segregation and the horrors of the Holocaust, they have maintained their holy covenant and lived according to the Torah. Their pursuit of freedom brought multitudes to our shores, and today our country is the proud home to millions of Jewish Americans. This month, let us honor their tremendous contributions—as scientists and artists, as activists and entrepreneurs. And let all of us find inspiration in a story that speaks to the universal human experience, with all of its suffering and all of its salvation.

This history led many Jewish Americans to find common cause with the Civil Rights Movement. African Americans and Jewish Americans marched side-by-side in Selma and Montgomery. They boarded buses for Freedom Rides together, united in their support of liberty and human dignity. These causes remain just as urgent today. Jewish communities continue to confront anti-Semitism—both around the world and, as tragic events mere weeks ago in Kansas reminded us, here in the United States. Following in the footsteps of Jewish civil rights leaders, we must come together across all faiths, reject ignorance and intolerance, and root out hatred wherever it exists.

In celebrating Jewish American Heritage Month, we also renew our unbreakable bond with the nation of Israel. It is a bond that transcends politics, a partnership built on mutual interests and shared ideals. Our two countries are enriched by diversity and faith, fueled by innovation, and ruled not only by men and women, but also by laws. As we continue working in concert to build a safer, more prosperous, more tolerant world, may our friendship only deepen in the years to come.

NOW, THEREFORE, I, BARACK OBAMA, President of the United States of America, by virtue of the authority vested in me by the Constitution and the laws of the United States, do hereby proclaim May 2014 as Jewish American Heritage Month. I call upon all Americans to visit www.JewishHeritageMonth.gov to learn more about the heritage and contributions of Jewish Americans and to observe this month, the theme of which is healing the world, with appropriate programs, activities, and ceremonies.

IN WITNESS WHEREOF, I have hereunto set my hand this thirtieth day of April, in the year two thousand fourteen, and of the Independence of the United States of America the two hundred and thirty-eighth.

[FR Doc. 2014-10448

Filed 5-5-14; 8:45 am]

Billing code 3295-F4